DEPARTMENT OF TRANSPORTATION

Federal Aviation Administration

Public Notice for Waiver of Aeronautical Land-Use Assurance; Rickenbacker International Airport, Columbus, OH

AGENCY: Federal Aviation Administration, DOT.

ACTION: Notice of intent of waiver with respect to land.

SUMMARY: The Federal Aviation Administration (FAA) is considering a proposal to change a portion of the Rickenbacker International Airport from aeronautical use to non-aeronautical use and to authorize the swap of the airport property. The proposal consists of the swap of improved land owned by the Columbus Regional Airport Authority (CRAA) for land owned by the United States Navy (Navy).

The CRAA has requested from FAA a “Release from Federal agreement obligated land covenants” to swap 18.320 acres of property acquired by the CRAA without Federal funding from the United States Air Force via Deed dated July 11, 2001, for 24.447 acres owned by the Navy.

The above mentioned land is not needed for aeronautical use, as shown on the Airport Layout Plan. There are no impacts to the airport by allowing the CRAA to dispose of the property. Approval does not constitute a commitment by the FAA to financially assist in the disposal of the airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before May 23, 2012.

ADDRESSES: Documents reflecting this FAA action may be reviewed at the Detroit Airports District Office, 11677 South Wayne Road, Suite 107, Romulus, Michigan 48174.

FOR FURTHER INFORMATION CONTACT: Mr. David J. Welhouse, Program Manager, Detroit Airports District Office, 11677 South Wayne Road, Suite 107, Romulus, Michigan 48174. Telephone Number (734) 229-2952/Fax Number (734) 229-2950.

SUPPLEMENTARY INFORMATION: Following is a legal description of the property located in the Township of Hamilton, Franklin County, Ohio, and described as follows:

Description of Property Being Released (18.320 Acres)

Situated in the State of Ohio, County of Franklin, Township of Hamilton, located in Sections 1 and 12, Township 3, Range 22, Congress Lands, being part of the property owned by United States of America, records of the Recorder's Office, Franklin County, Ohio said 18.320 acres being more fully bounded and described as follows:

Beginning for reference at RPA Mon. No. 13 found northeast of the centerline intersection of Tank Truck Road with 1st Street, thence South 65°00′21″ East a distance of 141.62 feet to an iron pin found;

Thence North 45°36′04″ East parallel and 60 feet southeast of said 1st Street, a westerly line of Rickenbacker Port Authority of record in Instrument No. 200001110008138, a distance of 1103.17 feet to the True Place of Beginning;

Thence North 45°36′04″ East parallel and 60 feet southeast of said 1st Street a distance of 1066.95 feet to an iron pin set at a point of curvature;

Thence with an arc of a curve to the right having a radius of 115.00 feet, delta angle of 89°59′55″, a chord bearing South 89°23′59″ East a distance of 162.63 feet to an iron pin set 30 feet southwest of Club Road;

Thence South 44°24′01″ East parallel and 30 feet southwest of said Club Road a distance of 566.60 feet to an iron pin set:

Thence South 45°34′28″ West parallel and 75 feet northwest of 2nd Street a distance of 1181.17 feet to an iron pin found on the north line of said Rickenbacker Port Authority;

Thence North 44°27′55″ West along the northerly line of said Rickenbacker Port Authority a distance of 473.04 feet to an iron pin found;

Thence North 45°40′41″ East a distance of 65.84 feet to an iron pin found;

Thence North 44°19′19″ West a distance of 72.72 feet to an iron pin found;

Thence South 45°40′41″ West a distance of 66.02 feet to an iron pin found;

Thence North 44°27′55″ West a distance of 136.38 feet to the True Place of Beginning containing 18.320 acres more or less, as calculated by the above courses. Subject however to all legal highways, easements and restrictions of record.

Issued in Romulus, Michigan on April 4, 2012.
John L. Mayfield, Jr.,
Manager, Detroit Airports District Office, FAA, Great Lakes Region.

[FR Doc. 2012-9677 Filed 4-20-12; 8:45 am]

BILLING CODE 4910-13-P